DEPARTMENT OF THE INTERIOR

National Park Service

Lake Meredith National Recreation Area

AGENCY: National Park Service, DOI.

ACTION: Notice of availability, and request for comments.

SUMMARY: Pursuant to § 9.52(b) of Title 36 of the Code of Federal Regulations, the National Park Service (NPS) announces the availability of a Plan of Operations to continue operating two natural gas wells by SNW Operating Company within Lake Meredith National Recreation Area. An Environmental Assessment is also available.

DATES: The NPS will accept comments from the public on the documents for 30 days after publication of this notice.

ADDRESSES: The documents are available for review in the Office of the Superintendent, Lake Meredith National Recreation Area, 419 E. Broadway, Fritch, Texas. Copies are available, for a duplication fee, from the Superintendent, Lake Meredith National Recreation Area, P.O. Box 1460, Fritch, Texas 79306-1460.

FOR FURTHER INFORMATION CONTACT: Paul Eubank, Lake Meredith National Recreation Area, telephone: 806-865-3874, extension 35.

SUPPLEMENTARY INFORMATION: If you wish to comment, you may submit comments by mailing them to the post office address provided above, or you may hand-deliver comments to the park at the street address provided above. Our practice is to make comments, including names and home addresses of responders, available for public review during regular business hours. Individual respondents may request that we withhold their home address from the decision-making record, which we will honor to the extent allowable by law. There also may be circumstances in which we would withhold from the decision-making record a respondent's identity, as allowable by law. If you wish us to withhold your name and/or address, you must state this prominently at the beginning of your comment. We will make all submissions from organizations or businesses, and from individuals identifying themselves as representatives or officials of organizations or businesses, available for public inspection in their entirety.

Dated: April 21, 2004.
Karren C. Brown,
Superintendent.

[FR Doc. 04-11164 Filed 5-17-04; 8:45 am]

BILLING CODE 4312-KE-P